DEPARTMENT OF THE INTERIOR

Bureau of Land Management

[WY-957-05-1910-BJ-5RK4]

Notice of Filing of Plats of Survey, Wyoming

AGENCY: Bureau of Land Management, Interior.

SUMMARY: The Bureau of Land Management (BLM) is scheduled to file the plats of surveys of the lands described below thirty (30) calendar days from the date of this publication in the BLM Wyoming State Office, Cheyenne, Wyoming.

FOR FURTHER INFORMATION CONTACT: Bureau of Land Management, 5353 Yellowstone Road, P.O. Box 1828, Cheyenne, Wyoming 82003.

SUPPLEMENTARY INFORMATION: These surveys were executed at the request of the Bureau of Indian Affairs and are necessary for the managements of lands. The lands surveyed are:

The plat and field notes representing the dependent resurvey of a portion of the subdivisional lines and the subdivision of section 10, and the survey of the subdivision of section 10, and the metes and bounds survey of certain parcels, Township 1 South, Range 1 West, Wind River Meridian, Wyoming, was accepted January 25, 2005.

The plat and field notes representing the dependent resurvey of a portion of the First Standard Parallel North, through Range 4 West, a portion of the subdivisional lines, and the subdivision of section 3, Township 4 North, Range 4 West, Wind River Meridian, Wyoming, was accepted January 25, 2005.

The plat and field notes representing the dependent resurvey of a portion of the subdivisional lines, and the survey of the subdivision of section 15, and the metes and bounds survey of Parcel A, section 15, Township 4 North, Range 4 West, Wind River Meridian, Wyoming, was accepted January 25, 2005.

The plat and field notes representing the dependent resurvey of a portion of the First Standard Parallel North, through Range 4 West, and a portion of the subdivisional lines, and the survey of the subdivision of section 31, and the metes and bounds survey of Parcel A, section 31 Township 5 North, Range 4 East, Wind River Meridian, Wyoming, was accepted January 25, 2005.

The plat and field notes representing the dependent resurvey of a portion of the subdivisional lines, Township 5 North, Range 4 West, Wind River Meridian, Wyoming, was accepted January 25, 2005.

Copies of the preceding described plats and field notes are available to the public at $1.10 each.

Dated: January 26, 2005.
John P. Lee,
Chief Cadastral Surveyor, Division of Support Services.

[FR Doc. 05-1902 Filed 2-1-05; 8:45 am]

BILLING CODE 4467-22-P